ENVIRONMENTAL PROTECTION AGENCY

[EPA-HQ-OW-2015-0056; FRL-9923-96-OW]

National Advisory Council for Environmental Policy and Technology; Request for Nominations to NACEPT Subcommittee

AGENCY: Environmental Protection Agency (EPA).

ACTION: Notice.

SUMMARY: The U.S. Environmental Protection Agency (EPA) invites nominations from a diverse range of qualified candidates for serving on a new subcommittee under the National Advisory Council for Environmental Policy and Technology (NACEPT) to provide advice and recommendations on how the EPA can best clarify assumable waters for dredge and fill permit programs pursuant to the Clean Water Act section 404(g)(1). The EPA is undertaking this effort to support states and tribes that wish to assume the program. Members are anticipated to be selected by June 15, 2015. Sources in addition to this Federal Register document may be utilized in the solicitation of nominees.

DATES: Nominations must be emailed or postmarked no later than May 15, 2015.

ADDRESSES: Nominations should be emailed or submitted in writing to Laura Bachle at the address listed under FOR FURTHER INFORMATION CONTACT.

FOR FURTHER INFORMATION CONTACT: Mail: Laura Bachle, Designated Federal Officer, U.S. Environmental Protection Agency, Office of Wetlands, Oceans and Watersheds (MC 4502T), 1200 Pennsylvania Ave. NW., Washington, DC 20460; telephone: (202) 566-2468; email: assumablewaters@epa.gov.

SUPPLEMENTARY INFORMATION:

I. General Information

A. Does this Action apply to me?

This action is directed to the public in general, and may be of particular interest to persons who work in Clean Water Act and wetland programs. Potentially affected entities may include, but are not limited to: Environmental groups; state, local, and tribal governments; private sector entities who frequently seek Clean Water Act section 404 permits; academia; and the public. If you have questions regarding the applicability of this action to a particular entity, consult the person listed under FOR FURTHER INFORMATION CONTACT.

B. How can I get copies of this document and other related information?

The docket for this action, identified by docket identification (ID) number EPA-HQ-OW-2015-0056, is available at http://www.regulations.gov or at the Office of Water Regulatory Public Docket in the Environmental Protection Agency Docket Center (EPA/DC), WJC West Building, Rm. 3334, 1301 Constitution Ave. NW., Washington, DC 20004. The Public Reading Room is open from 8:30 a.m. to 4:30 p.m., Monday through Friday, excluding legal holidays. The telephone number for the Public Reading Room is (202) 566-1744. Please review the visitor instructions and additional information about the docket available at http://www.epa.gov/dockets/.

II. Background

The NACEPT is a federal advisory committee chartered under the Federal Advisory Committee Act (FACA), Public Law 92-463. The EPA established the NACEPT in 1988 to provide advice to the EPA Administrator on a broad range of environmental policy, management and technology issues. The EPA is now seeking to form a subcommittee under the NACEPT, to be known as the “Assumable Waters Subcommittee” to provide advice on how the EPA can best clarify the waters that a state or tribe may assume permitting responsibility for under an approved Clean Water Act dredge and fill permit program. Subcommittee members, like the parent NACEPT committee, serve as representatives from academia, industry, non-governmental organizations, and state, local, and tribal governments. It is important to note that other federal agencies have specific interest in this matter and thus will also be solicited for their participation on this subcommittee.

The subcommittee is being formed to provide advice concerning a focused but critical aspect of implementing the Clean Water Act's permit program for the discharge of dredge and fill materials. The U.S. Army Corps of Engineers currently evaluates permit applications for construction activities in the majority of the nation's waters subject to the Clean Water Act. Although states and tribes may assume the dredge and fill permit responsibilities pursuant to section 404(g) of the Clean Water Act, only two states (Michigan and New Jersey) and no tribes have assumed the program to date. If a state or tribe is considering assuming such responsibilities, among the first questions that need to be answered is for which waters will the state or tribe assume permitting responsibility and for which waters the U.S. Army Corps of Engineers will retain permitting authority. States have raised concerns to the EPA that section 404 of the Clean Water Act and its implementing regulations lack sufficient clarity to enable states and tribes to estimate the extent of permit program responsibilities they would assume and associated program implementation costs (Stoner letter from the Environmental Council of States, the Association of Clean Water Administrators, and the Association of State Wetland Managers April 30, 2014. Letter in the docket.). The lack of clarity on these questions could discourage states and tribes from pursuing assumption as envisioned under the Clean Water Act.

The Assumable Waters Subcommittee will have a limited duration and narrow focus. Other aspects of state or tribal assumption will not be in scope for the deliberations of this advisory committee. For example, the subcommittee will not be deliberating on the merits of assumption. It will focus on how the EPA can clarify the waters for which a state or tribe may assume Clean Water Act section 404 permitting responsibility and the waters for which the U.S. Corps of Engineers retains this authority.

The subcommittee would meet approximately four to six times following initiation of the group for twelve months to sixteen months face-to-face or via video/teleconference. Additionally, members may be asked to participate in ad hoc workgroups to develop potential policy recommendations and reports to address specific issues. Members would serve on the subcommittee in a voluntary capacity. The workload for the members would average approximately ten to twenty hours per month. The EPA may provide reimbursement for travel and incidental expenses associated with such official government business on an as-needed basis.

The EPA is seeking nominations from candidates representing state, tribal, and local governments/communities, as well as other stakeholders who are familiar with federalism, intergovernmental operations and the state, tribal and federal dredge and fill permit provisions of the Clean Water Act.

Member nominations: Any interested person and/or organization may nominate qualified individuals for membership. The EPA values and welcomes diversity. In an effort to obtain nominations of diverse candidates, the Agency encourages nominations of women and men of all racial and ethnic groups. All nominations will be fully considered, but applicants need to be aware of the balance in representation needed to consider the issue at hand: state and tribal governments who have or are interested in assuming the Clean Water Act section 404 program; national associations who represent state and tribal interests in wetlands and/or water quality; local governments; environmental organizations; or industry sectors that require Clean water Act section 404 permits. Unless otherwise prescribed by statute, members generally are appointed to two-year terms or until the charge is addressed, whichever is first. Nominees will be considered according to the mandates of FACA, which requires committees to maintain diversity across a broad range of constituencies, sectors, and groups.

Other criteria used to evaluate nominees will include:

• Professional knowledge of environmental policy, management, and organizational development, particularly in the area of co-regulation by states and tribes under federalism;

• Demonstrated experience with Clean Water Act section 404; Clean Water Act section 404(g); or state or tribal wetland programs at the state or local level;

• Ability to assess and analyze environmental and institutional challenges with objectivity and integrity;

• Excellent interpersonal, oral and written communication, and consensus-building skills;

• Willingness to commit time to the Committee and demonstrated ability to work constructively on committees including participation on video/teleconference meetings and preparation of text for subcommittee reports and advice letters;

• Absence of personal financial conflicts of interest;

• Background and experiences that would help members contribute to the diversity of perspectives on the Council, e.g., geographic, economic, social, cultural, educational backgrounds, professional affiliations; and background and experiences that would help members contribute to the diversity in perspective critical to this issue.

If you know a qualified person who might be, or if you yourself are interested in serving on the subcommittee, follow the instructions under How to Submit Nominations. Nomination (application) packages should be submitted before the deadline of May 15, 2015.

III. How To Submit Nominations

Any interested person and/or organization may nominate qualified individuals to be considered for appointment to this advisory subcommittee. Individuals may self-nominate.

Nominations may be submitted in electronic format (preferred) or mailed to Laura Bachle at the address listed under FOR FURTHER INFORMATION CONTACT, using the subject line “NACEPT Subcommittee Membership Recruitment 2014” to assumablewaters@epa.gov. The Designated Federal Official will acknowledge receipt of nominations.

To be considered, all nominations should include:

• Current contact information for the nominee, including the nominee's name, organization (and position within that organization), current business address, email address, and daytime telephone number.

• Brief statement describing the nominee's interest in serving on the NACEPT subcommittee. In preparing the statement of interest, please describe how the nominee's background, knowledge, and experience will bring value to the work of the subcommittee, and how these qualifications would contribute to the overall diversity of the subcommittee. Also, be sure to describe any previous involvement of the nominee with the Agency through employment, grant funding and/or contracting sources.

• Résumé and a short biography (no more than two paragraphs) describing the professional and educational qualifications of the nominee, including a list of relevant activities, and any current or previous service on advisory committees.

• A letter authorizing the nominee to represent the point(s) of view of a specific entity or group (such as an industry association, state or local government, environmental group, etc.) that has an interest in the subject matter under the subcommittee's charge.

• A recommendation letter from a third party or individual supporting the nominee—this letter is separate and in addition to the authorization letter. This letter should describe how the nominee's background and skills would support the subcommittee's task.

Other sources, in addition to this Federal Register document, may also be utilized in the solicitation of nominees. To help the Agency in evaluating the effectiveness of its outreach efforts, please tell us how you learned of this opportunity.

Dated: March 10, 2015.
Benita Best-Wong,
Director, Office of Wetlands, Oceans, and Watersheds.

[FR Doc. 2015-05925 Filed 3-13-15; 8:45 am]

BILLING CODE 6560-50-P